DEPARTMENT OF ENERGY

Federal Energy Regulatory Commission

Notice of Effectiveness of Exempt Wholesale Generator Status

Grant Wind, LLC | EG15-102-000
McCoy Solar, LLC | EG15-103-000
Javelina Wind Energy, LLC | EG15-104-000
Prairie Breeze Wind Energy III LLC | EG15-105-000
GenOn Mid-Atlantic, LLC | EG15-106-000
Cedar Bluff Wind, LLC | EG15-107-000

Take notice that during the month of September 2015, the status of the above-captioned entities as Exempt Wholesale Generators became effective by operation of the Commission's regulations. 18 CFR 366.7(a).

Dated: October 5, 2015.
Kimberly D. Bose,
Secretary.

[FR Doc. 2015-26080 Filed 10-13-15; 8:45 am]

BILLING CODE 6717-01-P